GENERAL SERVICES ADMINISTRATION

[Notice-MA-2017-02; Docket 2017-0002; Sequence No. 5]

41 CFR Subtitle F—Federal Travel Regulation System Evaluation of Existing Federal Travel Regulations

AGENCY: General Services Administration (GSA).

ACTION: Request for comments.

SUMMARY: In accordance with Executive Order 13777, “Enforcing the Regulatory Reform Agenda,” GSA is seeking input on the Federal Travel Regulations (FTR) that may be appropriate for repeal, replacement, or modification. See the Supplementary Information section below for additional guidance.

DATES: Comments must be received on or before July 31, 2017.

ADDRESSES: Submit comments identified by “Notice-MA-2017-02, Evaluation of Existing Federal Travel Regulations” by any of the following methods:

• Regulations.gov: http://www.regulations.gov. Submit comments via the Federal eRulemaking portal by searching for Notice-MA-2017-02, Evaluation of Existing Federal Travel Regulations. Select the link “Comment Now” that corresponds with “Notice-MA-2017-02, Evaluation of Existing Federal Travel Regulations.” Follow the instructions provided on the screen. Please include your name, company name (if applicable), and “Notice-MA-2017-02, Evaluation of Existing Federal Travel Regulations” on your attached document.

• Google form found at: https://goo.gl/forms/ArUI1rxwlM8yuMkt1.

If you are commenting via the google form, please note that each regulation or part that you are identifying for repeal, replacement or modification should be entered into the form separately. This will assist GSA in its tracking and analysis of the comments received.

• Mail: General Services Administration, Regulatory Secretariat Division (MVCB), 1800 F Street NW., Washington, DC 20405.

GSA requests that comments be as specific as possible, include any supporting data, detailed justification for your proposal, or other information such as cost information, provide a Code of Federal Regulations (CFR) citation when referencing a specific regulation, and provide specific suggestions regarding repeal, replacement or modification.

FOR FURTHER INFORMATION CONTACT: Mr. Craig Flynn, Office of Government-wide Policy, 202-384-5977, or via email at travelpolicy@gsa.gov.

SUPPLEMENTARY INFORMATION: On February 24, 2017, the President signed Executive Order (E.O.) 13777, “Enforcing the Regulatory Reform Agenda,” which established a Federal policy “to alleviate unnecessary regulatory burdens” on the American people. Section 3(a) of the E.O. directs Federal agencies to establish a Regulatory Reform Task Force (Task Force). One of the duties of the Task Force is to evaluate existing regulations and “make recommendations to the agency head regarding their repeal, replacement, or modification.” The E.O. further asks that each Task Force “attempt to identify regulations that:

(i) Eliminate jobs, or inhibit job creation;

(ii) are outdated, unnecessary, or ineffective;

(iii) impose costs that exceed benefits;

(iv) create a serious inconsistency or otherwise interfere with regulatory reform initiatives and policies;

(v) are inconsistent with the requirements of section 515 of the Treasury and General Government Appropriation Act, 2001 (44 U.S.C. 3516 note), or the guidance issued pursuant to that provision in particular those regulations that rely in whole or in part on data, information, or methods that are not publicly available or that are insufficiently transparent to meet the standard of reproducibility; or

(vi) derive from or implement Executive Orders or other Presidential directives that have been subsequently rescinded or substantially modified.”

Section 3(e) of the E.O. 13777 calls on the Task Force to “seek input and other assistance, as permitted by law, from entities significantly affected by Federal regulations, including State, local, and tribal governments, small businesses, consumers, non-governmental organizations, trade associations” on regulations that meet some or all of the criteria above. Through this notice, GSA is soliciting such input from the public, including individual Federal employees who travel or are relocated in the best interest of the Government, to inform its Task Force's evaluation of the FTR. Specifically, 41 CFR Subtitle F (Federal Travel Regulation System) Chapter 300 (General), Chapter 301 (Temporary Duty Travel Allowances), Chapter 302 (Relocation Allowances), Chapter 303 (Payment of Expenses Connected With the Death of Certain Employees), and Chapter 304 (Payment of Travel Expenses From a Non-Federal Source) that may be appropriate for repeal, replacement, or modification. The FTR may be found at www.gsa.gov/ftr. Although the agency will not respond to each individual comments, GSA may follow-up with respondents to clarify comments. GSA values public feedback and will consider all input that it receives. GSA will also be conducting targeted outreach on this same topic. GSA intends to consider all GSA regulations for repeal, replacement, or modification under the guiding principles of E.O. 13777.

Dated: May 23, 2017.
Michael Downing,
Regulatory Reform Officer, Office of the Administrator.

[FR Doc. 2017-11055 Filed 5-26-17; 8:45 am]

BILLING CODE 6820-14-P